DEPARTMENT OF JUSTICE

Notice of Lodging of Consent Decree Under the Clean Air Act

Under 28 CFR 50.7, notice is hereby given that on June 26, 2012, a proposed Consent Decree in United States and San Joaquin Valley Unified Air Pollution Control District v. Cottage Bakery, Inc. and Ralcorp Frozen Bakery Products, Inc., case number 2:12-at-00895, was lodged with the United States District Court for the Eastern District of California.

The Decree resolves the claims of the United States and the San Joaquin Valley Unified Air Pollution Control District (the “Air District”) against Cottage Bakery, Inc. and Ralcorp Frozen Bakery Products, Inc. (collectively “Cottage”) for violations of the federal Clean Air Act, 42 U.S.C. 7413(b) (the “Act”), and the federally enforceable State Implementation Plan. The plaintiffs alleged that Cottage operated a commercial bakery in Lodi, California without appropriate permits and pollution control equipment. Under the proposed Decree, Cottage will pay a penalty of $625,000, of which $312,000 shall be paid to the United States and the remainder to the Air District; operate its thermal oxidizer under specified conditions; and undertake monitoring and recordkeeping.

The Department of Justice will receive for a period of thirty (30) days from the date of this publication comments relating to the Decree. Comments should be addressed to the Assistant Attorney General, Environment and Natural Resources Division, and either emailed to pubcomment-ees.enrd@usdoj.gov or mailed to P.O. Box 7611, U.S. Department of Justice, Washington, DC 20044-7611, and should refer to the Consent Decree between the United States et al. and Cottage Bakery et al., DOJ Ref. No. 90-5-2-1-10004.

During the public comment period, the Decree may be examined at the Environmental Protection Agency, Office of Regional Counsel, 75 Hawthorne Street, San Francisco, CA 94105, (415) 947-4112; at the Air District, 1990 E. Gettysburg Ave., Fresno, CA 93726, (559) 230-6033; and on the following Department of Justice Web site, http://www.usdoj.gov/enrd/Consent_Decrees.html. A copy of the Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-1547. In requesting a copy from the Consent Decree Library, please enclose a check in the amount of $7.75 (25 cents per page reproduction cost) payable to the U.S. Treasury or, if by email or fax, forward a check in that amount to the Consent Decree Library at the stated address.

Henry S. Friedman,
Assistant Section Chief, Environmental Enforcement Section, Environment and Natural Resources Division.

[FR Doc. 2012-16035 Filed 6-29-12; 8:45 am]

BILLING CODE 4410-15-P